NUCLEAR REGULATORY COMMISSION

[Docket Nos. 52-029 and 52-030; NRC-2008-0558]

Notice of Availability of the Draft Environmental Impact Statement for the Combined Licenses for Levy Nuclear Plant Units 1 and 2

Notice is hereby given that the U.S. Nuclear Regulatory Commission (NRC) and the U.S. Army Corps of Engineers (USACE), Jacksonville District, have published NUREG-1941, “Draft Environmental Impact Statement for Combined Licenses (COL) for Levy Nuclear Plant Units 1 and 2”. The site is located in Levy County, Florida, 7.9 miles east of the Gulf of Mexico and 30.1 miles west of Ocala, Florida. The application for the COLs was submitted by letter dated July 28, 2008, pursuant to title 10 of the Code of Federal Regulations (10 CFR) part 52. A notice of receipt and availability of the application, which included the environmental report, and a notice of acceptance for docketing of the COL application were published in the Federal Register on October 14, 2008 (73 FR 60726). A notice of intent to prepare a draft environmental impact statement (DEIS) and to conduct the scoping process was published in the Federal Register on October 24, 2008 (73 FR 63517). A COL is an authorization to construct and (with specified conditions) operate a nuclear power plant at a specific site in accordance with established laws and regulations.

The purpose of this notice is to inform the public that NUREG-1941 is available for public inspection. The DEIS can be accessed: (1) Online at http://www.nrc.gov/reactors/new-reactors/col/levy.html, (2) in the NRC's Public Document Room (PDR) located at One White Flint North, 11555 Rockville Pike (first floor), Public File Area O1-F21, Rockville, Maryland 20852, or (3) from NRC's Agencywide Documents Access and Management System (ADAMS). ADAMS is accessible from the NRC Web site at http://www.nrc.gov/reading-rm/adams.html. The accession numbers for the DEIS are ML102140231 and ML102140235. Persons who do not have access to ADAMS, or who encounter difficulty accessing the documents located in ADAMS, should contact the PDR reference staff at 1-800-397-4209 or 301-415-4737, or via e-mail to pdr.resource@nrc.gov. In addition, the following four public libraries have agreed to make the DEIS available to the public: the Citrus County Coastal Region Library, located at 8619 West Crystal Street, Crystal River, Florida; the Dunnellon Branch Library, located at 20351 Robinson Road, Dunnellon, Florida; the AF Knotts Public Library, located at 11 56th Street, Yankeetown, Florida; and the Bronson Public Library, located at 600 Gilbert Street, Bronson, Florida.

Any interested party may submit comments on the DEIS for consideration by the NRC staff. Comments may be accompanied by additional relevant information or supporting data. This draft report is being issued with a 75-day comment period. The comment period begins on the date that the U.S. Environmental Protection Agency publishes a Notice of Filing in the Federal Register, which is expected to be August 13, 2010; such Notices are published every Friday. The Notice will identify the end date of the comment period. To be considered, written comments should be postmarked by the end date of the comment period. Members of the public may submit comments on the DEIS by e-mail or mail. Comments submitted via e-mail should be sent to Levy.COLEIS@nrc.gov. Electronic submissions should be sent no later than the end date of the comment period. Written comments on the DEIS should be mailed to the Chief, Rules, Announcements, and Directives Branch, Division of Administrative Services, Office of Administration, Mailstop TWB-05-B01M, U.S. Nuclear Regulatory Commission, Washington, DC 20555-0001, or by fax at (301) 492-3446, and should cite the publication date and page number of this Federal Register Notice. Comments submitted in writing or in electronic form will be posted on the NRC Web site and on the Federal rulemaking Web site http://www.Regulations.gov.

Comments will not be edited to remove any identifying or contact information, therefore, the NRC cautions against including any information that should not be publicly disclosed. The NRC requests that any party soliciting or aggregating comments received from other persons for submission to the NRC inform those persons that the NRC will not edit comments or remove any identifying or contact information, and therefore, they should not include any information in their comments that they do not want publicly disclosed.

The NRC and USACE staff will hold two public meetings to present an overview of the DEIS and to accept public comments on the document on Thursday, September 23, 2010, at the Plantation Inn, 9301 West Fort Island Trail, Crystal River, Florida. The first meeting will convene at 1:30 p.m. and will continue until 4:30 p.m., as necessary. The second meeting will convene at 7 p.m., with a repeat of the overview portions of the first meeting, and will continue until 10 p.m., as necessary. The meetings will be transcribed and will include a presentation of the contents of the DEIS and the opportunity for interested government agencies, organizations, and individuals to provide comments on the draft report. To be considered, comments must be provided, either orally or in writing, during the transcribed public meeting. Additionally, the NRC and USACE staff will host informal discussions one hour before the start of each meeting during which members of the public may meet and talk with NRC and USACE staff members on an informal basis. No formal comments on the DEIS will be accepted during these informal discussions.

Persons may pre-register to attend or present oral comments at the meeting by contacting Mr. Douglas Bruner by telephone at 1-800-368-5642, extension 2730, or via e-mail to Levy.COLEIS@nrc.gov no later than September 16, 2010. Members of the public may also register to speak at the meeting within 15 minutes of the start of the meeting. Individual oral comments may be limited by the time available, depending on the number of persons who register. Members of the public who have not registered may also have an opportunity to speak, if time permits. Mr. Bruner will need to be contacted no later than September 16, 2010, if special equipment or accommodations are needed to attend or present information at the public meeting, so that the NRC staff can determine whether the request can be accommodated.

FOR FURTHER INFORMATION CONTACT: Mr. Douglas Bruner, Environmental Projects Branch 3, U.S. Nuclear Regulatory Commission, Mail Stop T7-E18, Washington, DC 20555-0001. Mr. Bruner may also be contacted at the aforementioned telephone number or e-mail address.

Dated at Rockville, Maryland, this 9th day of August 2010.
For The Nuclear Regulatory Commission.
Scott C. Flanders,
Director, Division of Site and Environmental Reviews, Office of New Reactors.

[FR Doc. 2010-20005 Filed 8-12-10; 8:45 am]

BILLING CODE 7590-01-P